DEPARTMENT OF COMMERCE

National Oceanic and Atmospheric Administration

[I.D. 090403F]

Pacific Fishery Management Council; Public Meeting

AGENCY: National Marine Fisheries Service (NMFS), National Oceanic and Atmospheric Administration (NOAA), Commerce.

ACTION: Notice of public meeting.

SUMMARY: The Pacific Fishery Management Council (Council) will convene a meeting of the Ad Hoc Vessel Monitoring System (VMS) Committee, which is open to the public.

DATES: The Ad Hoc VMS Committee will meet Tuesday, October 7, 2003 beginning at 8:30 a.m. and continuing until business for the day is completed.

ADDRESSES: The meeting will be held in the West Conference Room at the Pacific Fishery Management Council, 7700 NE Ambassador Place, Suite 200, Portland, OR 97220-1384; telephone: (503) 820-2280.

FOR FURTHER INFORMATION CONTACT: Mr. Mike Burner, Pacific Fishery Management Council Groundfish Staff Officer; telephone: (503) 820-2280.

SUPPLEMENTARY INFORMATION: The primary purpose of the meeting is to review the Council recommendation to expand the VMS program for West Coast groundfish fisheries to additional fishery sectors. The Council approved a pilot program for the limited entry trawl and limited entry fixed gear sectors and recommended implementation on January 1, 2004. The committee needs to consider expanding the VMS program to ensure effective monitoring and enforcement of area closures in commercial and recreational groundfish fisheries. The composition of the committee was revised by the Council at the June 2003 meeting to include representatives of limited entry, recreational charter vessel, and open access fishery sectors as well as representatives of the Enforcement Consultants, National Marine Fisheries Service, and fish processors.

Although non-emergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

The meeting is physically accessible to people with disabilities. Requests for sign language interpretation or other auxiliary aids should be directed to Ms. Carolyn Porter at (503) 820-2280 at least 5 days prior to the meeting date.

Dated: September 9, 2003.
Richard W. Surdi,
Acting Director, Office of Sustainble Fisheries, National Marine Fisheries Service.

[FR Doc. 03-23436 Filed 9-12-03; 8:45 am]

BILLING CODE 3510-22-S